DEPARTMENT OF LABOR

Employment and Training Administration

Notice of Determinations Regarding Eligibility To Apply for Worker Adjustment Assistance and NAFTA Transitional Adjustment Assistance

In accordance with section 223 of the Trade Act of 1974, as amended, the Department of Labor herein presents summaries of determinations regarding eligibility to apply for trade adjustment assistance for workers (TA-W) issued during the period of November 2000.

In order for an affirmative determination to be made and a certification of eligibility to apply for worker adjustment assistance to be issued, each of the group eligibility requirements of Section 222 of the Act must be met.

(1) That a significant number or proportion of the workers in the workers' firm, or an appropriate subdivision, thereof, have become totally or partially separated;

(2) That sales or production, or both, of the firm or subdivision have decreased absolutely; and

(3) That increases of imports of articles like or directly competitive with articles produced by the firm or appropriate subdivision have contributed importantly to the separations, or threat thereof, and to the absolute decline in sales or production.

Negative Determinations for Worker Adjustment Assistance

In each of the following cases the investigation revealed that criterion (3) has not been met. A survey of customers indicated that increased imports did not contribute importantly to worker separations at the firm.

TA-W-37,987; Hobman Corp., Jim Thorpe, PA

TA-W-37,835; Whitehall Leather Co., A Div. of Genesco, Inc., Whitehall, MI

TA-W-38,077; Paris Accessories, Inc., Belt Div., Allentown, PA

In the following cases, the investigation revealed that the criteria for eligibility have not been met for the reasons specified.

TA-W-37,990; Telxon Corp., National Service Center, Houston, TX

TA-W-38,188; Supply One, Klamath Falls, OR

TA-W-38,196; Gadsden Machine and Roll Co., Gadsden, AL

The workers firm does not produce an article as required for certification under Section 222 of the Trade Act of 1974.

TA-W-38,218; Swift Denim, Erwin, NC

TA-W-37,985; Lear Corp., Foam Line 1 and 2 of Dept 612, Detroit, MI

TA-W-38,219; C & M Corp., Wauregan, CT

TA-W-38,214; Fleetwood Homes of Georgia, Inc., Manufacturing Center #05, Douglas, GA

TA-W-38,001 & A; Warner's Distribution Center, Murfreesboro, TN & Warner's Cutting Center, Murfreesboro, TN

Increased imports did not contribute importantly to worker separations at the firm.

TA-W-38,121; Duke Energy Field Service, Ada, OK

The investigation revealed that criteria (2) and criteria (3) have not been met. Sales or production did not decline during the relevant period as required for certification. Increases of imports of articles like or directly competitive with articles produced by the firm or an appropriate subdivision have not contributed importantly to the separations of threat thereof, and the absolute decline in sales or production.

Affirmative Determinations for Worker Adjustment Assistance

The following certifications have been issued; the date following the company name and location of each determination references the impact date for all workers of such determination.

TA-W-38,078; Roanoke Electric Steel Corp., Melt Shop, Roanoke, VA: August 28, 1999.

TA-W-38,120; Bausch and Lomb, Contact Lens Div., Rochester, NY: September 6, 1999.

TA-W-38,171; Lear Corp., Lear Electronics and Electrical Div., Traverse City, MI: September 20, 1999.

TA-W-37,800; Mar-Kel Lighting, Inc., Paris, TN: June 9, 1999.

TA-W-38,154; Leather's Best, Johnstown, NY: September 19, 1999.

TA-W-38,118; Livingston Apparel, Inc., Livingston, AL: September 12, 1999.

TA-W-38,140; Esquire Novelty, Amsterdam, NY: September 15, 1999.

TA-W-38,063; International Lace and Emblem, Guttenberg, NJ: August 17, 1999.

TA-W-38,081; Bru-Mar Manufacturing Co., Inc., Allentown, PA: August 29, 1999.

TA-W-38,045; Corpus Tuscaloosa, Formerly Known as Tuscaloosa Steel, Tuscaloosa, AL: August 18, 1999.

TA-W-37,979; Newell Window Furnishing, Kirsch, Inc., Sturgis, MI: August 3, 1999.

TA-W-38,139; Ametek, U.S. Gauge Div., Sellersville, PA: September 22, 1999.

TA-W-38,148; Telex Communication, Newport, TN: September 15, 1999.

TA-W-37,986; Sumitok Magnetics Co., Bardstown, KY: August 8, 1999.

TA-W-38,095; Ungo Security, Hayward, CA: August 18, 1999.

TA-W-38,097; Toastmaster, Inc., Macon, MO: September 9, 1999.

TA-W-38,156; Matsushita Microwave Oven Co., Matsushita Home Applicance Co., Danville, KY: September 11, 1999.

TA-W-38,103; Lebanite Corp., Lebanon, OR: August 31, 1999.

TA-W-37,950; Sauer Danfoss, Inc., Formerly Danfoss Fluid Power, Inc., Racine, WI: August 7, 1999.

TA-W-38,012; Dunbrook Sportswear, Greenfield, MO: August 14, 1999.

TA-W-38,170; Advance Transformer Co., Monroe, WI: September 19, 1999.

TA-W-38,164; Nafta Textile Mills LLC, Manville, RI: September 20, 1999.

Also, pursuant to Title V of the North American Free Trade Agreement Implementation Act (Pub. L. 103-182) concerning transitional adjustment assistance hereinafter called (NAFTA-TAA) and in accordance with Section 250(a), Subchapter D, Chapter 2, Title II, of the Trade Act as amended, the Department of Labor presents summaries of determinations regarding eligibility to apply for NAFTA-TAA issued during the month of November 2000.

In order for an affirmative determination to be made and a certification of eligibility to apply for NAFTA-TAA the following group eligibility requirements of section 250 of the Trade Act must be met:

(1) That a significant number or proportion of the workers in the workers' firm, or an appropriate subdivision thereof, (including workers in any agricultural firm or appropriate subdivision thereof) have become totally or partially separated from employment and either—

(2) That sales or production, or both, of such firm or subdivision have decreased absolutely;

(3) That imports from Mexico or Canada of articles like or directly competitive with articles produced by such firm or subdivision have increased, and that the increases imports contributed importantly to such workers' separations or threat of separation and to the decline in sales or production of such firm or subdivision; or

(4) That there has been a shift in production by such workers' firm or subdivision to Mexico or Canada of articles like or directly competitive with articles which are produced by the firm or subdivision.

Negative Determinations NAFTA-TAA

In each of the following cases the investigation revealed that criteria (3) and (4) were not met. Imports from Canada or Mexico did not contribute importantly to workers; separations. There was no shift in production from the subject firm to Canada or Mexico during the relevant period.

NAFTA-TAA-04139; Lear Corp., Foam Line 1 and 2 of Dept 612, Detroit, MI

NAFTA-TAA-04181; Ametek, US Gauge Div., Sellersvile, PA

NAFTA-TAA-03993, Whitehall Leather Co., A Div. of Genesco, Inc., Whitehall, MI

NAFTA-TAA-04121; Terex Corp., Unit Rig Div., Tulsa, OK

NAFTA-TAA-04182; Fleetwood Homes of Georgia, Inc., Manufacturing Center #05, Douglas, GA

NAFTA-TAA-04075; Hobman Corp., Jim Thorpe, PA

NAFTA-TAA-04190; Chilton Toys, Div. of Strombecker Corp., Seymour, WI

NAFTA-TAA-04046; Cross Huller North America, Div. of Thyssenkrupp, Fraser, MI

NAFTA-TAA-04222; Norton Co., Coated Abrasives Div., Watervliet, NY

NAFTA-TAA-04206; Williamette Industries, Customer Products Div., Albany, OR

NAFTA-TAA-04220; Royal Oak Enterprises, Inc., Paris, TN

NAFTA-TAA-04051; Boise Cascade Corp., Timber and Wood Products Div., Independence, OR

NAFTA-TAA-04043; Scott Logging, Inc., Bend, OR

NAFTA-TAA-04096; Roseburg Forest Products Co., Big Log Sawmill, Dillard, OR

NAFTA-TAA-04102; Corlair Corp., Piedmont, MO

NAFTA-TAA-04224 & A; Northside Manufacturing, Philipsburg, PA and Streamline Fashions Manufacturing Co., Philipsburg, PA

The investigation revealed that the criteria for eligibility have not been met for the reasons specified.

NAFTA-TAA-04027; Guess?, Inc., San Diego, CA

NAFTA-TAA-04204; Supply One, Klamath Falls, OR

NAFTA-TAA-04085; GRT, Inc., Sun Valley, CA

NAFTA-TAA-04214; Gadsden Machine and Tool Co., Gadsden, AL

NAFTA-TAA-04071; Telxon Corp., National Service Center, Houston, TX

The investigation revealed that workers of the subject firm did not produce an article within the meaning of section 250(a) of the Trade Act, as amended.

Affirmative Determinations NAFTA-TAA

NAFTA-TAA-04124; Newell Window Furnishings, Kirsch, Inc., Sturgis, MI: August 3, 1999.

NAFTA-TAA-04196; Swift Denim, Erwin, NC: October 5, 1999.

NAFTA-TAA-04163; Lear Corp., Lear Electronics and Electrical Div., Traverse City, MI: September 26, 1999.

NAFTA-TAA-04183; Paper, Calmenson & Company, Blade Div., Bucyrus, OH: September 22, 1999.

NAFTA-TAA-04133; Marino Technologies, Opa-Locka, FL: August 21, 1999.

NAFTA-TAA-04141; Bru-Mar Manufacturing Co., Inc., Allentown, PA: August 29, 1999.

NAFTA-TAA-04207; United States Leather, Lackawanna Leather, Omaha, NE; September 7, 1999.

NAFTA-TAA-04208; Progress Lighting, Cowpens, SC: October 6, 1999.

NAFTA-TAA-04217; Leapwood Apparel, Adamsville, TN: October 11, 1999.

NAFTA-TAA-04236; John Crane, Inc., Morton Grove, IL: October 19, 1999.

NAFTA-TAA-04154; McDowell Manufacturing, DuBois, PA: September 11, 1999.

NAFTA-TAA-04098; Savane International Corp., El Paso, TX: July 5, 1999.

NAFTA-TAA-04171; Fruit of the Loom, Texas, Inc. Gitano Dept., Harlingen, TX: September 11, 1999.

NAFTA-TAA-04195; Avery Dennison, Writing Instruments Div., Crossville, TN: September 29, 1999.

NAFTA-TAA-04093; Central Point Lumber, a/k/a Tree Source, Central Point, OR: August 10, 1999.

NAFTA-TAA-04165; Sharp Manufacturing Co. of America, Memphis, TN: Septmeber 12, 1999.

NAFTA-TAA-04126; Acer America Corp., Manufacturing Div., San Jose, CA: August 28, 1999.

NAFTA-TAA-04134; Lebanite Corp., Lebanon, OR: August 31, 1999.

NAFTA-TAA-04225; Advance Transformer Co., Monroe, WI: September 19, 1999.

I hereby certify that the aforementioned determinations were issued during the month of November, 2000. Copies of these determinations are available for inspection in Room C-5311, U.S. Department of Labor, 200 Constitution Avenue, NW., Washington, DC 20210 during normal business hours or will be mailed to persons who write to the above address.

Dated: November 9, 2000.
Edward A. Tomchick,
Director, Division of Trade Adjustment Assistance.

[FR Doc. 00-29367 Filed 11-15-00; 8:45 am]

BILLING CODE 4510-30-M